DEPARTMENT OF ENERGY

Federal Energy Regulatory Commission

Combined Notice of Filings #2

Take notice that the Commission received the following electric rate filings:

Docket Numbers: ER20-1317-001.

Applicants: Arizona Public Service Company.

Description: Compliance filing: Amended Compliance Filing in Compliance with Order No. 864 to be effective 1/27/2020.

Filed Date: 4/28/20.

Accession Number: 20200428-5151.

Comments Due: 5 p.m. ET 5/19/20.

Docket Numbers: ER20-1670-000.

Applicants: PJM Interconnection, L.L.C.

Description: § 205(d) Rate Filing: Amendment to WMPA, Service Agreement No. 4880; Queue Nos. AD2-021/AC2-137 to be effective 2/22/2019.

Filed Date: 4/28/20.

Accession Number: 20200428-5130.

Comments Due: 5 p.m. ET 5/19/20.

Docket Numbers: ER20-1671-000.

Applicants: RE Mustang Two Barbaro LLC.

Description: § 205(d) Rate Filing: RE Mustang Two Barbaro LLC Concurrence with LGIA Co-Tenancy Agmt to be effective 4/28/2020.

Filed Date: 4/28/20.

Accession Number: 20200428-5142.

Comments Due: 5 p.m. ET 5/19/20.

Docket Numbers: ER20-1672-000.

Applicants: Tri-State Generation and Transmission Association, Inc.

Description: Tariff Cancellation: Notice of Cancellation of Rate Schedule FERC No. 94 to be effective 1/29/2020.

Filed Date: 4/28/20.

Accession Number: 20200428-5167.

Comments Due: 5 p.m. ET 5/19/20.

Docket Numbers: ER20-1673-000.

Applicants: Midcontinent Independent System Operator, Inc.

Description: § 205(d) Rate Filing: 2020-04-28_Compensation for Restoration Energy Filing to be effective 6/28/2020.

Filed Date: 4/28/20.

Accession Number: 20200428-5171.

Comments Due: 5 p.m. ET 5/19/20.

Docket Numbers: ER20-1674-000.

Applicants: Tri-State Generation and Transmission Association, Inc.

Description: Tariff Cancellation: Notice of Cancellation of Rate Schedule FERC No. 131 to be effective 1/29/2020.

Filed Date: 4/28/20.

Accession Number: 20200428-5172.

Comments Due: 5 p.m. ET 5/19/20.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: April 28, 2020.
Nathaniel J. Davis, Sr.,
Deputy Secretary.

[FR Doc. 2020-09440 Filed 5-1-20; 8:45 am]

BILLING CODE 6717-01-P